DEPARTMENT OF TRANSPORTATION

Federal Highway Administration

23 CFR Part 650

[FHWA Docket No. FHWA-2001-8954]

RIN 2125-AE86

National Bridge Inspection Standards

AGENCY: Federal Highway Administration (FHWA), DOT.

ACTION: Advance notice of proposed rulemaking (ANPRM); request for comments.

SUMMARY: The FHWA is soliciting comments on whether to revise its regulation on National Bridge Inspection Standards (NBIS) to incorporate current, state-of-the-art bridge inspection practices that public authorities may be using. It has been 14 years since the NBIS regulations were updated. The experience, material, and technology changes over time dictate that the FHWA take a fresh look at these regulations. The FHWA has received some unsolicited comments from engineers, inspectors, transportation planners, and others recommending a number of changes to the FHWA's NBIS regulations. In revising these regulations the FHWA is considering incorporating a number of the FHWA policy memorandums and technical advisories into the regulation. In this ANPRM, the FHWA is soliciting comments on whether to amend its NBIS regulations to incorporate changes in technology and enforcement mechanisms. Additionally, the FHWA intends to update the rule to comply with current state-of-the-art bridge inspection techniques.

DATES: Comments must be received on or before December 26, 2001.

ADDRESSES: Mail or hand deliver comments to the U.S. Department of Transportation, Dockets Management Facility, Room PL-401, 400 Seventh Street, SW., Washington, DC 20590, or submit electronically at http://dmses.dot.gov/submit.All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically.

FOR FURTHER INFORMATION CONTACT: Mr. Wade F. Casey, P.E., Federal Lands Highway, HFPD-9, (202) 366-9486, or Mr. Robert Black, Office of the Chief Counsel, HHC-30, (202) 366-1359, Federal Highway Administration, 400 Seventh Street, SW., Washington, DC 20590-0001. Office hours are from 7:45 a.m. to 4:15 p.m., e.t., Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may also be downloaded by using a computer, modem and suitable communications software from the Government Printing Office's Electronic Bulletin Board Service at (202) 512-1661. Internet users may also reach the Office of the Federal Register's home page at: http://www.nara.gov/fedreg and the Government Printing Office's web page at: http://www.access.gpo.gov/nara.

Background

The FHWA bridge inspection program regulations were developed as a result of the Federal-Aid Highway Act of 1968 (sec. 26, Pub. L. 90-495, 82 Stat. 815, at 829) that required the Secretary of Transportation to establish national bridge inspection standards (NBIS). The NBIS was authorized after the 1967 collapse of the Silver Bridge, at Point Pleasant, West Virginia, that resulted in the death of 46 people. The primary purpose of the NBIS is to locate, evaluate, and act on existing bridge deficiencies to ensure the safety of the traveling public (23 U.S.C. 151).

The 1968 Federal-Aid Highway Act directed the States to maintain an inventory of Federal-aid highway system bridges. The Federal-Aid Highway Act of 1970 (sec. 204, Pub. L. 91-605, 84 Stat. 1713, at 1741) limited the NBIS to bridges on the Federal-aid highway system. In the Surface Transportation Assistance Act of 1978 (STAA) (sec. 124, Pub. L. 95-599, 92 Stat. 2689, at 2702), NBIS requirements were extended to bridges greater than 20 feet on all public roads. The Surface Transportation and Uniform Relocation Assistance Act of 1987 (STURRA) (sec.125, Pub. L. 100-17, 101 Stat. 132, at 166) expanded bridge inspection programs to include special inspection procedures for fracture critical members and underwater inspection.

The condition of our nation's bridges is of paramount importance to the FHWA. In revising the NBIS regulations, the FHWA will ensure the “proper safety inspection and evaluation of all highway bridges” for the safety of the traveling public. Highway bridges play an important role in achieving the FHWA's strategic goals of safety, mobility, productivity, human and natural environment as well as national security.

Application of Standards

The current FHWA regulation requires that the American Association of State Highway Transportation Officials (AASHTO) definition of a bridge be used when determining which structures are to be inspected and reported. Should the FHWA develop its own definition of a bridge for the purpose of inspection and reporting? Should the FHWA definition change the way the bridge length is determined or what the minimum bridge length should be for reporting purposes? Current AASHTO policy measures bridges from undercopings of the abutments or spring lines of arches, or between extreme ends of openings for multiple boxes. The span opening then must be greater than 20 feet for reporting. What impact will the possible inclusion of more bridges be (1) on public authorities complying with this as an NBIS requirement, (2) or on the FHWA which maintains the inventory, (3) or on the HBRRP funds? A public authority means a Federal, State, county, town, or township, Indian tribe, municipal or other local government instrumentality with the authority to finance, build, operate, or maintain toll or toll-free facilities.

Inspection Procedures

The current FHWA regulation includes the following:

• The AASHTO “Manual for Maintenance Inspection of Bridges” ¹ will be used for determining load ratings for each bridge;

¹ The AASHTO Manual referred to in this part as the Manual for Maintenance Inspection of Bridges 1983 has been updated and is now entitled Manual for Condition Evaluation of Bridges, 1994 Second Edition and is available through AASHTO, 444 North Capitol Street, N.W. Suite 249, Washington, DC 20001.

• If the States' maximum legal load exceeds the load permitted under the operating rating then the bridge must be posted;

• A listing of bridges with fracture critical members along with information on location, description and inspection frequency must be maintained;

• Underwater members must be identified and special inspection performed no longer than every 5 years; and

• Bridges with other unique features must be identified and special safety inspections performed.

The results of underwater inspection of bridge piers since 1978 reveal that both construction materials used and the environment where the bridge is located impact inspection frequency. Also, the results of underwater inspections of bridge pier piling in concrete lined irrigation channels suggest that little, if any, deterioration occurs in the 5 years between inspections. Bridge engineers have commented that it may be more economical to increase the time between inspections, while not impacting safety. Based on comments from bridge engineers, the FHWA is considering changing the 5 year underwater inspection intervals and developing intervals which are tied to pile or foundation materials as well as the environment where the bridge is located. What impact will changing the underwater inspection intervals have on public authorities complying with this as an NBIS requirement?

Scour, the leading cause of bridge failure in the United States, is not addressed directly in the current NBIS regulations, but is covered in a FHWA technical advisory.² The FHWA is considering providing guidance within the regulations to address this. Also, the FHWA is seeking comment on whether it should provide guidance for what public authorities should do after major storm events. These storm events can, in some cases, severely undermine bridge piers that may have lost bearing capacity because of localized scour. The FHWA is considering inclusion of the FHWA Technical Advisory T 5140.23 within the NBIS regulations. What, if any, would be the impact on public authorities complying with evaluation of scour at bridges criteria within the NBIS regulation?

² FHWA Technical Advisory T 5140.23, October 28, 1991, “Evaluating Scour at Bridges,” is available at web site: http://www.fhwa.dot.gov/legsregs/directives. Also, it is available from the docket file for this document at: http://dms.dot.gov. Internal directives are available for inspection and copying as provided in 49 CFR part 7.

Frequency of Inspections

The current FHWA regulation requires that bridges be inspected every 2 years. The maximum interval can be increased to 4 years with FHWA approval after meeting certain conditions. Should the 4-year interval be increased so that more bridges would be eligible for the extended inspection cycle? What would be a reasonable interval? What impact would this have on the safety of bridges?

Qualification of Personnel

The current FHWA regulation requires that the individual in charge of the inspection and reporting be a registered professional engineer (PE); or be qualified for registration as a PE; or have a minimum of 10 years experience in bridge inspection in a responsible capacity and have completed certain training requirements. The individual in charge of the inspection team shall either meet the above qualifications or have a minimum of 5 years experience in bridge inspection assignments in a responsible capacity and have completed certain training requirements. Should the individual in charge of the inspection and reporting who is a PE be required to have the same training as bridge inspectors and have additional experience in bridge inspection?

In the current regulations, the registered professional engineer is not required to have specific bridge inspection training. Also, the discipline of the registered professional engineer is not specified. The FHWA is considering requiring that bridge inspections be performed by either a civil or structural engineer who is also a licensed professional engineer. Currently, the regulation permits professional engineers within other engineering disciplines to inspect highway bridges. Experience shows that only those engineers specifically trained to provide bridge inspection services are best equipped to conduct bridge inspections. Should the NBIS regulation be more specific as to the discipline of the professional engineer responsible for these bridge inspections and what impact would this change have on public authorities complying with this?

Bridge engineers have indicated that inspection programs need to include an engineer in training (EIT) component. Bridge engineers feel that a graduate EIT engineer should qualify as a field team leader with appropriate bridge inspector's training and a minimum of 2 years bridge design, inspection or construction experience.

According to the NBIS, a bridge inspector must have a minimum of 10 years experience in bridge inspection assignments in a responsible capacity. Bridge engineers would like clarification of the phrase “in a responsible capacity.”

Section 151 of title 23, U.S. Code, indicates that a training program for bridge inspectors shall be revised from time to time to take into account new and improved techniques. Bridge engineers have indicated that qualifications for inspectors should be modified to provide more training or experience in proportion to the complexity of the structure being inspected. The FHWA is considering requiring certification training in proportion to the complexity of the bridge structure being inspected, and making this a part of a requirement for inspectors under the national bridge inspection program. What impact would this change have on public authorities complying with this as an NBIS requirement?

Bridge engineers have indicated that the NBIS does not adequately address qualification requirements for those performing underwater inspections. Should those performing underwater inspections be qualified licensed professional engineers? Current regulations do not stipulate that the inspector in the water must also be an engineer. What impact would these proposed changes have on public authorities complying with this?

Inspection Report

The current FHWA regulation states that AASHTO's “Manual for Maintenance Inspection of Bridges” be used (see footnote 1). This manual describes the guidelines for organizing the reports, written report requirements, and documentation of defects using photos and sketches.

Bridge inspectors have indicated that those in management have made changes to their reports without having been in the field to view, first hand, the conditions of a particular bridge. The FHWA does not support this practice and believes any change to an inspection report should be made by the inspector who was out in the field. This procedure should be clearly covered in the NBIS. What if any would the impact be on public authorities complying with only allowing the inspector who was out in the field to change the inspection report as an NBIS requirement?

Inventory

The current FHWA regulation requires each State to maintain an inventory of all bridges in its State and submit the inventory to the FHWA annually. The data to be collected is outlined in the “Recording and Coding Guide for the Structure Inventory and Appraisal of the Nation's Bridges.” ³ Requirements for entering new or updated data into the State's inventory or placing load restriction signs is set to 90 days for bridges under the States jurisdiction and 180 days for all other bridges.

³ “Recording and Coding Guide for the Structure Inventory and Appraisal of the Nation's Bridges,” December 1995, FHWA, Report No. FHWA-PD-96-001, is available at URL: http://www.fhwa.dot.gov/////bridge/mtguide.pdf and may be inspected and copied as prescribed at 49 CFR part 7.

The FHWA believes that the procedures for bridge inventory are adequately written and require no modification. Should the reporting requirements for the NBIS be changed and what, if any, would the impact be on public authorities complying with this?

Additional General Questions

In our effort to facilitate review of this NBIS regulation, the FHWA seeks comments on the following additional questions:

1. Does the current regulation at 23 CFR part 650, subpart C, correctly address the requirements of 23 U.S.C. 151, national bridge inspection program?

2. What improvements would you recommend to the bridge inspection procedures?

3. What specific procedures would you recommend to enhance the NBIS regulations?

Related Rulemakings and Notices

The FHWA is also in the process of reviewing 23 CFR part 650, subpart D, Highway Bridge Replacement and Rehabilitation Program (HBRRP). The FHWA will soon publish an advanced notice of proposed rulemaking for the HBRRP. Additionally, the FHWA will soon publish a notice of proposed rulemaking, for 23 CFR part 650, subpart G, Discretionary Bridge Candidate Rating Factor.

Rulemaking Analyses and Notices

All comments received before the close of business on the comment closing date indicated above will be considered and will be available for examination in the docket at the above address. Comments received after the comment closing date will be filed in the docket and will be considered to the extent practicable. In addition to late comments, the FHWA will also continue to file relevant information in the docket as it becomes available after the comment period closing date, and interested persons should continue to examine the docket for new material. A notice of proposed rulemaking may be issued at any time after close of the comment period.

Executive Order 12866 (Regulatory Planning and Review) and DOT Regulatory Policies and Procedure

The FHWA has preliminarily determined that this action would be a significant regulatory action within the meaning of Executive Order 12866 and within the meaning of the U.S. Department of Transportation regulatory policies and procedures because the proposed action concerns a matter on which there is substantial public interest. The Office of Management and Budget (OMB) designated this proposed regulation as a significant regulatory action and has reviewed it under E.O. 12866. Because of the preliminary nature of this document and lack of necessary information on costs as well as benefits, the FHWA is unable to evaluate the impact of potential changes to the NBIS.

Based upon the information received in response to this notice, the FHWA intends to carefully consider the costs and benefits associated with this rulemaking. Accordingly, comments, information, and data are solicited on the economic impact of any proposed recommendation for change to the NBIS.

Regulatory Flexibility Act

In compliance with the Regulatory Flexibility Act (Pub. L. 96-354, 5 U.S.C. 601-612), and based upon the information received in response to this ANPRM, the FHWA will evaluate the effects on small entities of any action proposed. This action merely seeks information regarding potential changes to the NBIS. Therefore, the FHWA is unable to certify at this time whether or not any proposed changes to the NBIS will have a significant economic impact on a substantial number of small entities.

Unfunded Mandates Reform Act of 1995

Because of the preliminary nature of this document and lack of necessary information on costs, the FHWA is unable to evaluate the effects of the potential regulatory changes in regards to imposing a Federal mandate involving expenditure by State, local and Indian tribal governments, in the aggregate, or by the private sector, of $100 million or more in any one year (2 U.S.C. 1532). Nevertheless, the FHWA will evaluate any regulatory action that might be proposed in subsequent stages of this rulemaking to assess the affects on State, local, and Indian tribal governments and the private sector.

Executive Order 12988 (Civil Justice Reform)

The FHWA will evaluate any action that may be proposed in response to comments received to ensure that such action meets applicable standards in section 3(a) and 3(b)(2) of Executive Order 12988, Civil Justice Reform, to minimize litigation, eliminate ambiguity, and reduce burden.

Executive Order 13045 (Protection of Children)

The FHWA will evaluate any rule that may be proposed in response to comments received under Executive Order 13045, Protection of Children from Environmental Health Risks and Safety Risks. We do not, however, anticipate that any such rule would be economically significant or would present an environmental risk to health or safety that may disproportionately affect children.

Executive Order 12630 (Taking of Private Property)

The FHWA will evaluate any rule that may be proposed in response to comments received to ensure that any such rule will not effect a taking of private property or otherwise have taking implications under Executive Order 12630, Governmental Actions and Interference with Constitutionally Protected Property Rights.

Executive Order 13132 (Federalism)

Any action that might be proposed in subsequent stages of this proceeding will be analyzed in accordance with the principles and criteria contained in Executive Order 13132, and the FHWA anticipates that any action contemplated will not have sufficient federalism implications to warrant the preparation of a federalism assessment. The FHWA will consult extensively with public authorities regarding any changes to the NBIS regulations. The FHWA also anticipates that any action taken will not preempt any State law or State regulation or affect the States' ability to discharge traditional State governmental functions. We encourage commenters to consider these issues.

Executive Order 13175 (Tribal Consultation)

The FHWA will analyze any proposal under Executive Order 13175, dated November 6, 2000. The FHWA preliminarily believes that any proposal will not have substantial direct effects on one or more Indian tribes; will not impose substantial direct compliance costs on Indian tribal governments; and will not preempt tribal law. Therefore, a tribal summary impact statement may not be required.

Executive Order 12372 (Intergovernmental Review)

Catalog of Federal Domestic Assistance Program Number 20.205, Highway Planning and Construction. The regulations implementing Executive Order 12372 regarding intergovernmental consultation on Federal programs and activities apply to this program.

Paperwork Reduction Act of 1995

Under the Paperwork Reduction Act of 1995 (PRA) (44 U.S.C. 3501, et. seq.), Federal agencies must obtain approval from the Office of Management and Budget (OMB) for each collection of information they conduct, sponsor, or require through regulations. The currently-approved information collection entitled Structure Inventory and Appraisal (SI&A) sheet is covered by OMB Approval Number 2125-0501. The current expiration date is April 30, 2004. The SI&A sheets are used by the States to provide the FHWA required information on bridge inspections. The FHWA estimates that a total of 540,000 burden hours are utilized by all of the States to fulfill their current reporting obligations. Any action that might be contemplated in subsequent phases of this proceeding will be analyzed for the purpose of the PRA for its impact to this current information collection. The FHWA would be required to submit any proposed collections of information to OMB for review and approval at the time the NPRM is issued and, accordingly, seeks public comments. Interested parties are invited to send comments regarding any aspect of these information collection requirements, including, but not limited to: (1) Whether the collection of information would be necessary for the performance of the functions of the FHWA, including whether the information would have practical utility; (2) the accuracy of the estimated burden; (3) ways to enhance the quality, utility, and clarity of the collection of information; and (4) ways to minimize the collection burden without reducing the quality of the information collected.

National Environmental Policy Act

The agency will analyze any action that might be proposed for the purpose of the National Environmental Policy Act of 1969 (42 U.S.C. 4321-4347) to assess whether there would be any effect on the quality of the environment.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 650

Bridges, Grant programs—transportation, Highways and roads, Reporting and recordkeeping requirements.

Authority: 23 U.S.C. 151 and 315; 49 CFR 1.48.

Issued on: September 19, 2001.
Vincent F. Schimmoller,
Deputy Executive Director.

[FR Doc. 01-24092 Filed 9-25-01; 8:45 am]

BILLING CODE 4910-22-P